INTER-AMERICAN FOUNDATION

Sunshine Act Meetings

TIME AND DATE: November 10, 2014, 9:00 a.m.-1:00 p.m.

PLACE: Offices of Baker & McKenzie LLP, 815 Connecticut Avenue NW., White House Conference Room, Washington, DC 20006.

STATUS: Meeting of the Board of Directors, Open to the Public.

MATTERS TO BE CONSIDERED:

Approval of the Minutes of the August 11, 2014, Meeting of the Board of Directors

Management Report

Reflections on August brainstorming session

Focus on Central America and Mexico

RedEAmerica

Role and engagement of advisory council

Adjournment

Next Meetings

CONTACT PERSON FOR MORE INFORMATION: Paul Zimmerman, General Counsel, (202) 683-7118.

Paul Zimmerman,
General Counsel.

[FR Doc. 2014-25919 Filed 10-28-14; 11:15 am]

BILLING CODE 7025-01-P